DEPARTMENT OF COMMERCE

International Trade Administration

[A-570-909]

Certain Steel Nails From the People's Republic of China: Extension of Time Limit for the Preliminary Results of the New Shipper Review

AGENCY: Import Administration, International Trade Administration, Department of Commerce.

DATES: Effective Date: February 22, 2011.

FOR FURTHER INFORMATION CONTACT: Ricardo Martinez, AD/CVD Operations, Office 9, Import Administration, International Trade Administration, U.S. Department of Commerce, 14th Street and Constitution Avenue, NW., Washington, DC 20230; telephone: (202) 482-4532.

Background

The antidumping duty order on certain steel nails from the People's Republic of China (“PRC”) was published in the Federal Register on August 1, 2008. See Notice of Antidumping Duty Order: Certain Steel Nails From the People's Republic of China, 73 FR 44961 (August 1, 2008). On August 27, 2010, we received a timely request for a new shipper review from Shanghai Colour Co., Ltd. (“Shanghai Colour”) in accordance with 19 CFR 351.214(c) and 351.214(d)(2). On October 4, 2010, the Department published a notice of initiation of the new shipper review of certain steel nails from the PRC covering the period of August 1, 2009, through July 31, 2010. See Certain Steel Nails from the People's Republic of China: Initiation of Antidumping Duty New Shipper Review, 75 FR 61132 (October 4, 2010). The preliminary results are currently due no later than March 27, 2011.

Statutory Time Limits

Section 751(a)(2)(B)(iv) of the Tariff Act of 1930, as amended (the “Act”), provides that the Department will issue the preliminary results of a new shipper review of an antidumping duty order within 180 days after the day on which the review was initiated. See also 19 CFR 351.214 (i)(1). The Act further provides that the Department may extend that 180-day period to 300 days if it determines that the case is extraordinarily complicated. See also 19 CFR 351.214 (i)(2).

Extension of Time Limit of Preliminary Results

The Department determines that this new shipper review involves extraordinarily complicated methodological issues, including Shanghai Colour's multiple production stages for subject merchandise and the need to evaluate the bona fide nature of Shanghai Colour's sales. The Department finds that these extraordinarily complicated issues require additional time to evaluate. Therefore, in accordance with section 751(a)(2)(B)(iv) of the Act and 19 CFR 351.214(i)(2), the Department is extending the time limit for the preliminary results by 120 days, until no later than July 25, 2011. The final results continue to be due 90 days after the publication of the preliminary results.

We are issuing and publishing this notice in accordance with sections 751(a)(2)(B)(iv) and 777(i) of the Act.

Dated: February 10, 2011.
Gary Taverman,
Acting Deputy Assistant Secretary for Antidumping and Countervailing Duty Operations.

[FR Doc. 2011-3541 Filed 2-18-11; 8:45 am]

BILLING CODE 3510-DS-P